DEPARTMENT OF TRANSPORTATION

Pipeline and Hazardous Materials Safety Administration

[Docket No. PHMSA-2012-0058; Notice No. 12-4]

United States-Canada Regulatory Cooperation Council (RCC)—Transportation—Dangerous Goods Working Group

AGENCY: Pipeline and Hazardous Materials Safety Administration (PHMSA), Department of Transportation.

ACTION: Notice of request for stakeholder input.

SUMMARY: This notice is a request for comments and suggestions relative to the draft work plan of the Transportation—Dangerous Goods Working Group, of the United States-Canada Regulatory Cooperation Council (RCC). Comments will be accepted from all interested stakeholders.

DATES: Comments must be received by April 25, 2012.

ADDRESSES: Comments: It is requested that comments be submitted via email to rcc@trade.gov as well as by any one of the following methods (please identify comments by the docket number PHMSA-2012-0058):

• Federal eRulemaking Portal: http://www.regulations.gov. Follow the online instructions for submitting comments.

• Fax: 1-202-493-2251.

• Mail: Docket Operations, U.S. Department of Transportation, West Building, Ground Floor, Room W12-140, Routing Symbol M-30, 1200 New Jersey Avenue SE., Washington, DC 20590.

• Hand Delivery: To Docket Operations, Room W12-140 on the ground floor of the West Building, 1200 New Jersey Avenue SE., Washington, DC 20590, between 9 a.m. and 5 p.m., Monday through Friday, except Federal holidays.

Instructions: All submissions must include the agency name and docket number for this notice at the beginning of the comment. Note that all comments received will be posted without change to the Federal eRulemaking Portal, including any personal information provided.

Privacy Act: Anyone is able to search the electronic form of any written communications and comments received into any of our dockets by the name of the individual submitting the document (or signing the document, if submitted on behalf of an association, business, labor union, etc.). You may review DOT's complete Privacy Act Statement in the Federal Register published on April 11, 2000 (Volume 65, Number 70; Pages 19477-78), which may also be found at http://www.dot.gov.

Docket: For access to the docket to read background documents or comments received, go to http://www.regulations.gov or DOT's Docket Operations Office (see ADDRESSES).

FOR FURTHER INFORMATION CONTACT: Mr. Shane Kelley or Mr. Vincent Babich, Office of Hazardous Materials Safety, Department of Transportation, Washington, DC 20590; (202) 366-0656.

SUPPLEMENTARY INFORMATION: President Barack Obama and Prime Minister Stephen Harper created the U.S.-Canada Regulatory Cooperation Council (RCC) on February 4, 2011. After private sector consultations and bilateral negotiations, the RCC released the Joint Action Plan on Regulatory Cooperation on December 7, 2011. The Joint Action Plan is a practical first step to increased regulatory cooperation between the United States and Canada.

In order to address the dangerous goods (hazardous materials) transportation opportunities identified in the Joint Action Plan, the Transportation—Dangerous Goods Working Group led by senior officials of regulatory agencies from both countries has developed a work plan with concrete objectives, deliverables and milestones for tangible progress within the RCC's two-year mandate. When available, the work plan will be posted at http://www.trade.gov/rcc/.

The purpose of this request is to invite all interested stakeholders to provide comments relative to the plan and the RCC. The draft work plan has also been posted and is available for viewing under this docket number. All stakeholders including those who may not have participated in the United States-Canada Regulatory Cooperation Council (RCC) stakeholder engagement session on January 31, 2012 in Washington, DC are welcome to submit additional comments. Comments that were submitted prior to the publication date of this notice will be posted to this docket and do not need to be resubmitted.

PHMSA is particularly soliciting comments and suggestions in the following areas:

• The development of ongoing cooperation frameworks and alignment mechanisms in the work plan.

• Technical input relevant to issues identified in the work plan or otherwise in relation to the transportation of hazardous materials between the U.S. and Canada.

• Your preferred method and frequency of stakeholder engagement for the working group.

• Overall United States-Canada regulatory cooperation and the RCC process with respect to the transportation of hazardous materials.

Additional information concerning the RCC and the Joint Action Plan is available at http://www.trade.gov/rcc/.

Issued in Washington, DC on March 13, 2012.
Magdy El-Sibaie,
Associate Administrator for Hazardous Materials Safety.

[FR Doc. 2012-7193 Filed 3-23-12; 8:45 am]

BILLING CODE 4910-60-P